DEPARTMENT OF DEFENSE

Department of the Army, Corps of Engineers

Withdrawal of the Notice of Intent To Prepare a Draft Environmental Impact Statement (DEIS) in Cooperation With the North Carolina Department of Transportation and South Carolina Department of Transportation for Extending SC 31 (Carolina Bays Parkway), in Horry County, South Carolina, To Connect to US 17, in Brunswick County, North Carolina

AGENCY: Department of the Army, U.S. Army Corps of Engineers, DoD.

ACTION: Notice.

SUMMARY: The U.S. Army Corps of Engineers, Wilmington District, Wilmington Regulatory Division and the U.S. Army Corps of Engineers, Charleston District, Charleston Regulatory Division (collectively COE) are issuing this notice to advise the public that a State (North Carolina Department of Transportation [NCDOT] and South Carolina Department of Transportation [SCDOT]) funded Draft Environmental Impact Statement (DEIS) will no longer be prepared by the COE, while acting as lead federal agency, for improvements to SC 31 starting near Little River, Horry County, South Carolina and running northeast to US 17, in an area between Calabash and Shallotte, Brunswick County, North Carolina. On July 6, 2017 the COE issued a Notice of Intent to prepare a DEIS for the “Carolina Bays Parkway Extension”, NCDOT Project 44604 and SCDOT Project P029554. Recent commitment of federal funds has altered various aspects of this project, including the designation of the lead federal agency. Due to these developments, the COE will no longer act in this capacity, but rather as a cooperating agency throughout the evaluation of the project. At the appropriate time, a separate notice will be issued within the Federal Register identifying the lead agency, describing the project, and detailing the evaluation process.

FOR FURTHER INFORMATION CONTACT: Questions about the COE's current role in this project can be directed to Mr. Brad Shaver, Regulatory Project Manager (Wilmington District), Wilmington Regulatory Field Office, 69 Darlington Avenue, Wilmington, NC 28403, by telephone: (910) 251-4611, or by email at Brad.E.Shaver@USACE.army.mil or Ms. Amanda Heath, Regulatory Project Manager (Charleston District), Charleston Regulatory Office, 69A Hagood Avenue, Charleston, SC 29403, by telephone: (843) 329-8025, or by email at Amanda.L.Heath@usace.army.mil.

Scott McLendon,
Chief, Regulatory Division, Wilmington District.

[FR Doc. 2018-26041 Filed 11-29-18; 8:45 am]

BILLING CODE 3720-58-P